DEPARTMENT OF TRANSPORTATION

Federal Highway Administration

Notice of Final Federal Agency Actions on Proposed Highway in California

AGENCY: Federal Highway Administration (FHWA), DOT.

ACTION: Notice of Limitation on Claims for Judicial Review of Actions by the California Department of Transportation (Caltrans), pursuant to 23 U.S.C. 327, and the U.S. Army Corps of Engineers (USACOE).

SUMMARY: The FHWA, on behalf of Caltrans, is issuing this notice to announce actions taken by Caltrans that are final within the meaning of 23 U.S.C. 139(l)(1). The actions relate to a proposed highway project, San Diego Freeway (I-405) Improvement Project from State Route (SR) 73 to Interstate 605 (I-605). Work is proposed as follows:

—From Post Mile (PM) 9.3 to Post Mile 24.2 in Orange County and Post Mile 0.0 to Post Mile 1.2; 12-ORA-22 p.m. R0.7/R3.8/12-ORA-22 p.m. R0.5/R0.7; 12-ORA-73 p.m. R27.2/R27.8/12-ORA-605 p.m. 3.5/R1.6; 07-LA-605 p.m. R0.0/R1.2 in the Counties of Orange and Los Angeles, State of California.

Those actions grant licenses, permits, and approvals for the project.

DATES: By this notice, the FHWA, on behalf of Caltrans, is advising the public of final agency actions subject to 23 U.S.C. 139(I)(1). A claim seeking judicial review of the Federal agency actions on the highway project will be barred unless the claim is filed on or before November 2, 2015. If the Federal law that authorizes judicial review of a claim provides a time period of less than 150 days for filing such claim, then that shorter time period still applies.

FOR FURTHER INFORMATION CONTACT: Smita Deshpande, Branch Chief, California Department of Transportation District 12, Division of Environmental Analysis, 3347 Michelson Drive, Suite 100, Irvine, California 92612, during normal business hours from 8:00 a.m. to 5:00 p.m., Telephone number (949) 724-2800, email: smita.deshpande@dot.ca.gov.

SUPPLEMENTARY INFORMATION: Effective July 1, 2007, the Federal Highway Administration (FHWA) assigned, and the California Department of Transportation (Caltrans) assumed environmental responsibilities for this project pursuant to 23 U.S.C. 327. Notice is hereby given that Caltrans has taken final agency actions subject to 23 U.S.C. 139(I)(1) by issuing licenses, permits, and approvals for the I-405 Improvement Project in the State of California. The project's Selected Alternative includes the addition of one GP lane in each direction on I-405 from Euclid Street to the I-605 interchange, plus the addition of a tolled Express Lane in each direction of I-405 from SR-73 to SR-22 East. The tolled Express Lane and the existing HOV lanes would be managed jointly as a tolled Express Facility with two lanes in each direction from SR-73 to I-605. Access to the SR-73 Express Lane Facility would be via construction of the new direct connector to SR-73 south of the I-405 junction. Auxiliary lanes would be added at various locations. The project may be implemented in phases and/or segments and procured under one or more contracts, including the option of using design/bid/build, design-build or public/private contract authority. The project is planned to be constructed in 54 months. The project is intended to reduce congestion, enhance operations, increase mobility, improve trip reliability, maximize throughput, optimize operations, and minimize environmental impacts and ROW acquisition. It will more effectively serve existing and future travel demand within Orange County and between Orange and Los Angeles Counties. The project will provide improvements along the I-405 corridor as well as to related local roads, and to reduce diversion of regional traffic from the freeways into the surrounding communities.

The actions by the Federal agencies, and the laws under which such actions were taken, are described in the Final Environmental Impact Statement (FEIS) for the project, approved on March 26, 2015, in the Record of Decision (ROD) issued on May 15, 2015, and in other documents in the FHWA project records. The FEIS, ROD, and other project records are available by contacting Caltrans at the address provided above. The FEIS and ROD can be viewed and downloaded from the project Web site at http://www.dot.ca.gov/dist12/405/index.htm. The section 404 Nationwide Permit Status is available by contacting California Department of Transportation District 12 at the address provided above. This notice applies to all Federal agency decisions as of the issuance date of this notice and all laws under which such actions were taken, including but not limited to:

1. General: National Environmental Policy Act (NEPA) (42 U.S.C. 4321-4351)

2. Air: Clean Air Act (42 U.S.C. 7401-7671(q))

3. Wildlife: Migratory Bird Treaty Act (16 U.S.C. 703-712); Federal Endangered Species Act of 1973 (16 U.S.C. 1531-1543)

4. Historic and Cultural Resources: Section 106 of the National Historic Preservation Act of 1966, as amended (16 U.S.C. 470(f) et seq.);

5. Wetland and Water Resources: Clean Water Act (33 U.S.C. 1251-1377) (section 404, section 401, section 319);

6. Land: Department of Transportation Act of 1966, (49 U.S.C. 303) (section 4(f))

7. Executive Orders: E.O. 11990- Protection of Wetlands; E.O. 11988—Floodplain Management; E.O. 12898—Federal Actions to Address Environmental Justice in Minority and Low Income Populations; E.O. 11593—Protection and Enhancement of Cultural Resources; E.O. 13112—Invasive Species.

(Catalog of Federal Domestic Assistance Program Number 20.205, Highway Planning and Construction. The regulations implementing Executive Order 12372 regarding intergovernmental consultation on Federal programs and activities apply to this program.)

Authority: 23 U.S.C. 139(l)(1)

Jack Lord,
Planning and Air Quality Team Leader, Federal Highway Administration, Sacramento, California.

[FR Doc. 2015-13625 Filed 6-3-15; 8:45 am]

BILLING CODE 4910-RY-P